DEPARTMENT OF DEFENSE

Department of the Air Force

Notice of Intent To Grant an Exclusive Patent License

AGENCY: Department of the Air Force, Department of Defense.

ACTION: Notice of intent.

SUMMARY: Pursuant to the Bayh-Dole Act, and implementing regulations, the Department of the Air Force hereby gives notice of its intent to grant an exclusive patent license to Inquis Medical Inc., a small business having a place of business at 1735 East Bayshore Rd, Suite 4, Redwood City, CA 94063.

DATES: Written objections must be filed no later than fifteen (15) calendar days after the date of publication of this Notice.

ADDRESSES: Submit written objections to Chastity D. S. Whitaker, Ph.D., Air Force Materiel Command Law Office, AFMCLO/JAZ, 2240 B Street, Area B, Building 11, Wright-Patterson AFB, OH 45433-7109; Facsimile: (937) 255-9318; or Email: afmclo.jaz.tech@us.af.mil. Include Docket No. A59-201208A-PL in the subject line of the message.

FOR FURTHER INFORMATION CONTACT: Chastity D. S. Whitaker, Ph.D., Air Force Materiel Command Law Office, AFMCLO/JAZ, 2240 B Street, Area B, Building 11, Wright-Patterson AFB, OH 45433-7109; Telephone: (937) 904-5787; Facsimile: (937) 255-9318; or Email: afmclo.jaz.tech@us.af.mil.

SUPPLEMENTARY INFORMATION:

Abstract of patent application(s):

A negative pressure surgical apparatus. The apparatus includes a mask configured to cover a portion of the face of a patient and including a first port and an instrument port. The first port is configured to draw negative pressure from between the mask and the face of the patient. The instrument port is configured to receive a medical instrument therethrough and form a seal therewith. The instrument port is positioned on the mask so as to permit surgery at a surgical site.

Intellectual Property

—U.S. Application Serial No. 16/985,829, filed on August 5, 2020, and entitled Negative pressure oronasal apparatus.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Adriane Paris,
Acting Air Force Federal Register Liaison Officer.

[FR Doc. 2020-28577 Filed 12-23-20; 8:45 am]

BILLING CODE 5001-10-P